LEGAL SERVICES CORPORATION

45 CFR Parts 1610, 1627, and 1630

Use of Non-LSC Funds, Transfer of LSC Funds, Program Integrity; Subgrants and Membership Fees or Dues; Cost Standards and Procedures—Extension of Comment Period

AGENCY: Legal Services Corporation.

ACTION: Proposed rule; reopening of comment period.

SUMMARY: The Legal Services Corporation (“LSC”) issued a proposed rule in the Federal Register of April 20, 2015, concerning proposed amendments to its regulations governing transfers of LSC funds, subgrants to third parties, and cost standards and procedures. This notice extends the comment period for 21 days, to June 10, 2015.

DATES: The comment period for the proposed rule published April 20, 2015, at 80 FR 21692, is reopened. Comments must be submitted by June 10, 2015.

ADDRESSES: You may submit comments by any of the following methods:

Email: SubgrantRulemaking@lsc.gov. Include “Subgrant Rulemaking” in the subject line of the message.

Fax: (202) 337-6519, ATTN: Subgrant Rulemaking.

Mail: Stefanie K. Davis, Assistant General Counsel, Legal Services Corporation, 3333 K Street NW., Washington, DC 20007, ATTN: Subgrant Rulemaking.

Hand Delivery/Courier: Stefanie K. Davis, Assistant General Counsel, Legal Services Corporation, 3333 K Street NW., Washington, DC 20007, ATTN: Subgrant Rulemaking.

Instructions: Electronic submissions are preferred via email with attachments in Acrobat PDF format. LSC may not consider written comments sent via any other method or received after the end of the comment period.

FOR FURTHER INFORMATION CONTACT: Stefanie K. Davis, Assistant General Counsel, Legal Services Corporation, 3333 K Street NW., Washington, DC 20007, (202) 295-1563 (phone), (202) 337-6519 (fax), sdavis@lsc.gov.

SUPPLEMENTARY INFORMATION: LSC is extending the public comment period stated in the Federal Register notice for this rulemaking. 80 FR 21692, Apr. 20, 2015 [FR Doc. No. 2015-8951]. In that notice, LSC proposed amendments to its regulations governing transfers of LSC funds (45 CFR part 1610), subgrants to third parties (45 CFR part 1627), and cost standards and procedures (45 CFR part 1630). LSC has received requests for an extension of the comment period to allow interested parties and stakeholders additional time to develop their comments on the proposed rulemaking, including obtaining data about the potential effects of proposed changes. LSC is therefore extending the comment period for 21 days, from May 20, 2015, to June 10, 2015.

Dated: May 18, 2015.
Stefanie K. Davis,
Assistant General Counsel.

[FR Doc. 2015-12371 Filed 5-21-15; 8:45 am]

BILLING CODE 7050-01-P